DEPARTMENT OF AGRICULTURE

Food Safety and Inspection Service

[Docket No. 05-029N]

National Advisory Committee on Microbiological Criteria for Foods

AGENCY: Food Safety and Inspection Service, USDA.

ACTION: Notice of public meeting; request for comments.

SUMMARY: This notice announces that the National Advisory Committee on Microbiological Criteria for Foods (NACMCF) will hold public meetings of the full Committee and subcommittees on September 26-29, 2005. The Committee will discuss: (1) Consumer guidelines for the safe cooking of poultry products, (2) analytical utility of Campylobacter methodologies, and (3) determination of cooking parameters for safe seafood for consumers.

DATES: The full Committee will hold an open meeting on Wednesday, September 28, 2005, from 8:30 a.m. to 12 p.m. The Subcommittee on Consumer Guidelines for the Safe Cooking of Poultry Products, will hold open meetings on Monday, September 26, 2005, from 1 p.m. to 5 p.m. and on Tuesday, September 27, 2005, from 8:30 a.m. to 5 p.m. The Subcommittee on Determination of Cooking Parameters for Safe Seafood for Consumers will hold open meetings on Wednesday, September 28, 2005 from 1 p.m. to 5 p.m., and on Thursday, September 29, 2005, from 8:30 a.m.-5 p.m.

ADDRESSES: The meetings will be held at the Omni Colonnade Hotel, 180 Aragon Avenue, Coral Gables, FL 33134; telephone number 305-441-2600. All documents related to full Committee meetings will be available for public inspection in the Food Safety and Inspection Service (FSIS) Docket Room, 300 12th Street, SW., Room 102, Cotton Annex, Washington, DC 20250, between 8:30 a.m. and 4:30 p.m., Monday through Friday, as soon as they become available. The NACMCF documents will also be available on the Internet at http://www.fsis.usda.gov/regulations/2005_Notices_Index/.

FSIS will finalize an agenda on or before the meeting dates and post it on the FSIS Internet Web page http://www.fsis.usda.gov/News/Meetings_&_Events/.

Also, the official transcripts of the September 2005 full Committee meeting, when they become available, will be kept in the FSIS Docket Room at the above address and will also be posted on http://www.fsis.usda.gov/About/NACMCF_Meetings/.

FSIS welcomes comments on the topics to be discussed at the public meeting. Comments may be submitted by any of the following methods:

• Mail, including floppy disks or CD-ROM's, and hand- or courier-delivered items: Send to Docket Clerk, United States Department of Agriculture (USDA), Food Safety and Inspection Service, 300 12th Street, SW., Room 102, Cotton Annex, Washington, DC 20250.

• Electronic mail: fsis.regulationscomments@fsis.usda.gov.

All submissions received must include the Agency name and docket number 05-029N.

All comments submitted in response to this notice, as well as research and background information used by FSIS in developing this document, will be available for public inspection in the FSIS Docket Room at the address listed above between 8:30 a.m. and 4:30 p.m., Monday through Friday. The comments also will be posted on the Agency's Web site at http://www.fsis.usda.gov/regulations/2005_Notices_Index/.

See the disclaimer section below regarding modifications that may be necessary due to the presentation of the comments.

The mailing address for the contact person below, Karen Thomas, is: Food Safety and Inspection Service, USDA, Office of Public Health Science, Aerospace Center, Room 333, 1400 Independence Avenue, SW., Washington, DC 20250-3700.

FOR FURTHER INFORMATION CONTACT: Persons interested in making a presentation, submitting technical papers, or providing comments should contact Karen Thomas, phone (202) 690-6620, Fax (202) 690-6334, e-mail address: karen.thomas@fsis.usda.gov, or at the mailing address above. Persons requiring a sign language interpreter or other special accommodations should notify Ms. Thomas, by September 19, 2005.

SUPPLEMENTARY INFORMATION:

Background

The NACMCF was established in 1988, in response to a recommendation of the National Academy of Sciences for an interagency approach to microbiological criteria for foods, and in response to a recommendation of the U.S. House of Representatives Committee on Appropriations, as expressed in the Rural Development, Agriculture, and Related Agencies Appropriation Bill for fiscal year 1988. The Charter for the NACMCF is available for viewing on the FSIS Internet web page at http://www.fsis.usda.gov/About/NACMCF_Charter/.

The NACMCF provides scientific advice and recommendations to the Secretary of Agriculture and the Secretary of Health and Human Services on public health issues relative to the safety and wholesomeness of the U.S. food supply, including development of microbiological criteria and review and evaluation of epidemiological and risk assessment data and methodologies for assessing microbiological hazards in foods. The Committee also provides advice to the Centers for Disease Control and Prevention and the Departments of Commerce and Defense.

Dr. Richard Raymond, Under Secretary for Food Safety, USDA, is the Committee Chairperson; Dr. Robert E. Brackett, Director of the Food and Drug Administration's Center for Food Safety and Applied Nutrition (CFSAN), is the Vice-Chairperson; and Gerri Ransom, FSIS, is the Executive Secretariat.

At the meetings the week of September 26-29, 2005 the Committee will discuss:

• Consumer guidelines for the safe cooking of poultry products,

• analytical utility of Campylobacter methodologies, and

• determination of cooking parameters for safe seafood for consumers.

Documents Reviewed by NACMCF

FSIS intends to make available to the public all materials that are reviewed and considered by NACMCF regarding its deliberations. Generally, these materials will be made available as soon as possible after the full Committee meeting. Further, FSIS intends to make these materials available in both electronic formats on the FSIS web page, as well as in hard copy format in the FSIS Docket Room. Often, an attempt is made to make the materials available at the start of the full Committee meeting when sufficient time is allowed in advance to do so.

Disclaimer: For electronic copies, all NACMCF documents and comments are electronic conversions from a variety of source formats into HTML that may have resulted in character translation or format errors. Readers are cautioned not to rely on this HTML document. Minor changes to materials in electronic format may be necessary in order to meet the electronic and information technology accessibility standards contained in Section 508 of the Rehabilitation Act in which graphs, charts, and tables must be accompanied by a text descriptor in order for the vision-impaired to be made aware of the content. FSIS will add these text descriptors along with a qualifier that the text is a simplified interpretation of the graph, chart, or table. Portable Document Format (PDF) and/or paper documents of the official text, figures, and tables can be obtained from the FSIS Docket Room.

Copyrighted documents will not be posted on the FSIS Web site, but will be available for inspection in the FSIS Docket Room.

Additional Public Notification

Public awareness of all segments of rulemaking and policy development is important. Consequently, in an effort to ensure that the public, and in particular minorities, women, and persons with disabilities are aware of this notice, FSIS will announce it on-line through the FSIS Web page located at http://www.fsis.usda.gov/regulations/2005_Notices_Index/.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free electronic mail subscription service for industry, trade, and farm groups, consumer interest groups, allied health professionals, scientific professionals, and other individuals who have requested to be included. The update also is available on the FSIS web page. Through Listserv and the web page, FSIS is able to provide information to a much broader, more diverse audience.

In addition, FSIS offers an electronic mail subscription service which provides an automatic and customized notification when popular pages are updated, including Federal Register publications and related documents. This service is available at http://www.fsis.usda.gov/news_and_events/email_subscription/ and allows FSIS customers to sign up for subscription options across eight categories. Options range from recalls to export information to regulations, directives, and notices.

Customers can add or delete subscriptions themselves and have the option to protect their accounts with passwords.

Done at Washington, DC on September 13, 2005.
Barbara J. Masters,
Administrator.

[FR Doc. 05-18491 Filed 9-16-05; 8:45 am]

BILLING CODE 3410-DM-P